DEPARTMENT OF HOMELAND SECURITY

Coast Guard

33 CFR Part 165

[Docket No. USCG-2008-0366]

Security Zone; Portland Rose Festival on Willamette River

AGENCY: Coast Guard, DHS.

ACTION: Notice of enforcement of regulation.

SUMMARY: The Coast Guard will enforce the Portland Rose Festival Security Zone on the Willamette River from 1 a.m. on June 4, 2008 until 10 a.m. June 10, 2008. This action is necessary for the security of public vessels on a portion of the Willamette River during the fleet week of the Rose Festival. This security zone provides for the regulation of vessel traffic in the vicinity of the moored public vessels. During the enforcement period, entry into this zone is prohibited unless authorized by the Captain of the Port or his designee.

DATES: The regulations in 33 CFR 165.1312 will be enforced commencing from 1 a.m. on June 4, 2008 until 10 a.m. June 10, 2008.

FOR FURTHER INFORMATION CONTACT: MST1 Lucia Mack, Coast Guard Sector Portland, 6767 N. Basin Ave, Portland, OR 97217, telephone 503-240-9311.

SUPPLEMENTARY INFORMATION: The Coast Guard will enforce the Rose Festival Security Zone established by 33 CFR 165.1312 from 1 a.m. on June 4, 2008 until 10 a.m. June 10, 2008.

Under the provisions of 33 CFR 165.33 a vessel may not enter the regulated area, unless it receives permission from the Captain of the Port or his designee. The Coast Guard may be assisted by other Federal, State, or local law enforcement agencies in enforcing this regulation.

This notice is issued under authority of 33 CFR 165.1312 and 5 U.S.C. 552(a). In addition to this notice in the Federal Register, the Coast Guard will provide the maritime community with extensive advance notification of this enforcement period via the Local Notice to Mariners and marine information broadcasts.

Dated: May 6, 2008.
F.G. Myer,
Captain, U.S. Coast Guard, Captain of the Port, Portland.

[FR Doc. E8-10921 Filed 5-15-08; 8:45 am]

BILLING CODE 4910-15-P